GENERAL SERVICES ADMINISTRATION

48 CFR Part 505

[GSAR Case No. 2002-G501]

RIN 3090-AH67

General Services Administration Acquisition Regulation; FedBizOpps Notice on Charging for E-mail Notification Service

AGENCY: Office of Acquisition Policy, General Services Administration (GSA).

ACTION: Proposed rule.

SUMMARY: The General Services Administration (GSA) is proposing to amend the General Services Acquisition Regulation (GSAR) to charge subscribers to the value-added e-mail notification service of Federal Business Opportunities (FedBizOpps.gov) a modest annual fee beginning October 1, 2003. The charge will be only for the members of the public who elect to register for options 2 or 3 of the FedBizOpps Vendor Notification Service, specifically to (1) receive all notices from selected organizations and product service classifications, or (2) register to receive all procurement notices on the site.

DATES: Interested parties should submit comments in writing on or before February 10, 2003, to be considered in the formulation of a final rule.

ADDRESSES: Interested parties should submit written comments to—General Services Administration, Regulatory Secretariat (MVA), 1800 F Street, NW., Room 4035, Washington, DC 20405.

E-mail comments submitted over the Internet should be addressed to— gsarcase.2002-g501@gsa.gov.

Please cite GSAR case 2002-G501 in all correspondence related to this issue.

FOR FURTHER INFORMATION CONTACT: The Regulatory Secretariat, Room 4035, GS Building, Washington, DC 20405, (202) 501-4755, for information pertaining to status or publication schedules. For clarification of content, contact Mr. Edward Loeb at (202) 501-0650, or by e-mail at Edward.Loeb@gsa.gov. Please cite GSAR case 2002-G501.

SUPPLEMENTARY INFORMATION:

A. Background

Federal Business Opportunities (FedBizOpps) is the Governmentwide point of entry where Government business opportunities greater than $25,000, including synopses of proposed contract actions, solicitations, and associated information, can be accessed electronically by the public. Use of FedBizOpps is discussed in part 5 of the Federal Acquisition Regulation. The General Services Administration (GSA) manages the Federal Business Opportunities (FedBizOpps.gov) site and currently provides, at no charge, an added-value e-mail notification service to the public on FedBizOpps activities. To help GSA recover some of the costs associated with providing these value-added services, GSA is planning to charge subscribers to this e-mail service (listed on the site as Vendor Notification Service) a modest annual fee beginning October 1, 2003. The charge will be only for the members of the public who elect to register for options 2 or 3 of the FedBizOpps Vendor Notification Service, specifically to (1) receive all notices from selected organizations and product service classifications, or (2) register to receive all procurement notices on the site. The anticipated fee for FY 2003 is $30. The public, however, will continue to be able to register to receive all notices related to a specific solicitation at no charge. Beyond e-mail notifications, the public will still be able to access, free of charge, all postings on FedBizOpps and download on a daily basis all synopses (a File Transfer Protocol datafeed file).

The subscription cost will be adjusted annually based upon subscriptions from the prior year so that the charges to the public represent a fair share of the costs of the FedBizOpps operations.

FedBizOpps predecessor, the GPO Commerce Business Daily (CBDNet), charged VANs and other subscribers a fee of $11,500 per year for their daily electronic (datafeed) file of synopses and $316 per year for their publication. FedBizOpps eliminated these charges. GPOs CBDNet did not provide value-added email notification services to vendors.

This is not a significant regulatory action and, therefore, was not subject to review under section 6(b) of Executive Order 12866, Regulatory Planning and Review, dated September 30, 1993. This rule is not a major rule under 5 U.S.C. 804.

B. Regulatory Flexibility Act

The General Services Administration does not expect this proposed rule to have a significant economic impact on a substantial number of small entities within the meaning of the Regulatory Flexibility Act, 5 U.S.C. 601, et seq., because GSA is just charging a nominal fee for requested value added services. An Initial Regulatory Flexibility Analysis has, therefore, not been performed. We invite comments from small businesses and other interested parties. GSA will consider comments from small entities concerning the affected GSAR Part in accordance with 5 U.S.C. 610.

C. Paperwork Reduction Act

The Paperwork Reduction Act does not apply because the proposed changes to the GSAM do not impose information collection requirements that require the approval of the Office of Management and Budget under 44 U.S.C. 3501, et seq.

List of Subjects in 48 CFR Part 505

Government procurement.

Dated: December 31, 2002.
David A. Drabkin,
Deputy Associate Administrator, Office of Acquisition Policy.

Therefore, GSA proposes amending 48 CFR part 505 as set forth below:

PART 505—PUBLICIZING CONTRACT ACTIONS

1. The authority citation for 48 CFR part 505 continues to read as follows:

Authority: 40 U.S.C. 486(c).

2. Amend part 505 by adding section 505.102 to read as follows:

505.102 Availability of solicitations.

The General Services Administration (GSA), as the manager of the Federal Business Opportunities (FedbizOpps.gov) site, will charge a nominal fee to recover costs of operations for value-added services, specifically for an e-mail notification service to the public for FedBizOpps activities, to—

(a) Receive all notices from selected organizations and product service classifications; or

(b) Register to receive all procurement notices.

[FR Doc. 03-378 Filed 1-8-03; 8:45 am]

BILLING CODE 6820-BR-P